ENVIRONMENTAL PROTECTION AGENCY

[OW-2003-0064, FRL-7639-7]

National Clean Water Act Recognition Awards: Availability of Application and Nomination Information

AGENCY: Environmental Protection Agency.

ACTION: Notice.

SUMMARY: This notice announces the availability of application and nomination information for the U.S. EPA's 2004 Clean Water Act Recognition Awards. The awards recognize municipalities and industries for outstanding and innovative technological achievements in wastewater treatment and pollution abatement programs. Recognition is made for exceptional and noteworthy projects or programs in the following categories: operations and maintenance (O&M) at wastewater treatment facilities; biosolids management; pretreatment programs; storm water management; and combined sewer overflow (CSO) controls. The awards are intended to educate the public about the contributions wastewater treatment facilities make to clean water; to encourage public support for municipal and industrial efforts in effective wastewater management, biosolids management, and wet weather pollution control; and, to recognize communities that use innovative practices to meet CWA permitting requirements. Applicants must be in compliance with all applicable CWA requirements, or otherwise have a satisfactory record with respect to environmental quality.

DATES: Nominations are due to EPA headquarters no later than June 18, 2004.

ADDRESSES: Applications and nomination information can be contained from the EPA regional offices and our Web site at http://www.epa.gov/owm/intnet.htm.

FOR FURTHER INFORMATION CONTACT: Maria E. Campbell, Telephone: (202) 564-0628. Facsimile Number: (202) 501-2346. E-mail: campbell.maria@epa.gov. Also visit the Office of Wastewater Management's Web page at http://www.epa.gov/owm.

SUPPLEMENTARY INFORMATION: The CWA Recognition Awards are authorized by section 501(a) and (e) of the Clean Water Act, and 33 U.S.C. 1361(a) and (e). Applications and nominations for the national award must be recommended by EPA regions. EPA regulations are contained at 40 CFR part 105.

Dated: March 18, 2004.
James A. Hanlon,
Director, Office of Wastewater Management.

[FR Doc. 04-6567 Filed 3-23-04; 8:45 am]

BILLING CODE 6560-50-P